DEPARTMENT OF HEALTH AND HUMAN SERVICES

Centers for Disease Control and Prevention

Advisory Committee on Immunization Practices: Meeting

In accordance with section 10(a)(2) of the Federal Advisory Committee Act (Pub. L. 92-463), the Centers for Disease Control and Prevention (CDC) announces the following committee meeting:

Name: Advisory Committee on Immunization Practices (ACIP).

Times and Dates: 8:30 a.m.-6:30 p.m., October, 18, 2000; 8 a.m.-3:30 p.m., October 19, 2000.

Place: Atlanta Marriott Century Center, 2000 Century Boulevard, NE., Atlanta, Georgia 30345-3377.

Status: Open to the public, limited only by the space available.

Purpose: The Committee is charged with advising the Director, CDC, on the appropriate uses of immunizing agents. In addition, under 42 U.S.C. 1396s, the Committee is mandated to establish and periodically review and, as appropriate, revise the list of vaccines for administration to vaccine-eligible children through the Vaccines for Children (VFC) program, along with schedules regarding the appropriate periodicity, dosage, and contraindications applicable to the vaccines.

Matters To Be Discussed: The agenda will include a discussion on the recommended childhood immunization schedule; immunization of foreign adoptees and progress towards recommending immunization of foreign adoptees; influenza vaccine supply for 2000-2001 season; 1999-2000 season vaccine effectiveness; update on the live attenuated influenza vaccine and vaccine recommendations for young children; persistent poliovirus excretion in patients with B cell immune deficiency disorders; meningococcal conjugate vaccination in the United Kingdom; update on measles vaccination and outbreaks in the United Kingdom; anaphylaxis after Measles, Mumps, and Rubella vaccine due to gelatin; pertussis among adolescents and adults in the U.S.; review of recommendations for pneumococcal polysaccharide vaccination among HIV-positive adults; Adult Immunization Action Plan; smallpox vaccine recommendations in bioterrorism event involving smallpox, revised recommendations for smallpox vaccination in laboratory workers using attenuated vaccinia virus strains, alternatives to VIG for treatment of adverse vaccine reactions; Subcommittee on Oversight of the Vaccine Health Care Network; update on the National Immunization Program vaccine safety initiatives; update from the National Center for Infectious Diseases; update from the National Immunization Program; update from the Food and Drug Administration; update from the Vaccine Injury Compensation Program; and an update from the National Vaccine Program.

Agenda items are subject to change as priorities dictate.

Contact Person for More Information: Gloria A. Kovach, Program Analyst, Epidemiology and Surveillance Division, National Immunization Program, CDC,1600 Clifton Road, NE., m/s E61, Atlanta, Georgia 30333. Telephone 404/639-8096.

The Director, Management Analysis and Services office has been delegated the authority to sign Federal Register notices pertaining to announcements of meetings and other committee management activities for both the Centers for Disease Control and Prevention and the Agency for Toxic Substances and Disease Registry.

Dated: September 28, 2000.
Carolyn J. Russell,
Director, Management Analysis and Services Office, Centers for Disease Control and Prevention.

[FR Doc. 00-25687 Filed 10-4-00; 8:45 am]

BILLING CODE 4163-18-P